FEDERAL EMERGENCY MANAGEMENT AGENCY

[FEMA-3173-EM]

New York; Emergency and Related Determinations

AGENCY: Federal Emergency Management Agency (FEMA).

ACTION: Notice.

SUMMARY: This is a notice of the Presidential declaration of an emergency for the State of New York (FEMA-3173-EM), dated February 25, 2003, and related determinations.

EFFECTIVE DATE: February 25, 2003.

FOR FURTHER INFORMATION CONTACT: Magda Ruiz, Response and Recovery Directorate, Federal Emergency Management Agency, Washington, DC 20472, (202) 646-2705.

SUPPLEMENTARY INFORMATION: Notice is hereby given that, in a letter dated February 25, 2003, the President declared an emergency under the authority of the Robert T. Stafford Disaster Relief and Emergency Assistance Act, 42 U.S.C. 5121-5206c (the Stafford Act), as follows:

I have determined that the impact in certain areas of the State of New York, resulting from the record/near record snowstorms on December 25-26, 2002, and January 3-4, 2003, is of sufficient severity and magnitude to warrant an emergency declaration under the Robert T. Stafford Disaster Relief and Emergency Assistance Act, 42 U.S.C. 5121-5206 (Stafford Act). I, therefore, declare that such an emergency exists in the State of New York.

In order to provide Federal assistance, you are hereby authorized to allocate from funds available for these purposes, such amounts as you find necessary for Federal disaster assistance and administrative expenses.

You are authorized to provide emergency protective measures under the Public Assistance program to save lives, protect public health and safety, and property. Other forms of assistance under Title V of the Stafford Act may be added at a later date, as you deem appropriate. You are further authorized to provide this emergency assistance in the affected areas for a period of 96 hours for the 11 counties so designated and 48 hours for the 6 counties so designated. You may extend the period of assistance, as warranted. This assistance excludes regular time costs for sub-grantees' regular employees. Assistance under this emergency is authorized at 75 percent Federal funding for eligible costs.

Further, you are authorized to make changes to this declaration to the extent allowable under the Stafford Act.

Notice is hereby given that pursuant to the authority vested in the Director of the Federal Emergency Management Agency under Executive Order 12148, I hereby appoint Marianne Jackson of the Federal Emergency Management Agency to act as the Federal Coordinating Officer for this declared emergency.

I do hereby determine the following areas of the State of New York to have been affected adversely by this declared emergency:

FEMA intends to provide assistance for emergency protective measures (Category B) under the Public Assistance program to save lives, protect public health and safety, and property.

This emergency assistance will be provided for a period of 96 hours for Albany, Chenango, Columbia, Delaware, Greene, Herkimer, Montgomery, Otsego, Schenectady, Sullivan, and Ulster Counties.

Emergency assistance will be provided for a 48-hour period for Broome, Fulton, Oneida, Orange, Saratoga, and Schoharie Counties.

(Catalog of Federal Domestic Assistance No. 83.544, Disaster Assistance)
Joe M. Allbaugh,
Director.

[FR Doc. 03-7988 Filed 4-1-03; 8:45 am]

BILLING CODE 6718-02-P